ENVIRONMENTAL PROTECTION AGENCY

[ER-FRL-6693-5]

Environmental Impacts Statements; Notice of Availability

Responsible Agency: Office of Federal Activities, General Information (202) 564-7167 or http://www.epa.gov/compliance/nepa/.

Weekly receipt of Environmental Impact Statements filed 11/19/2007 through 11/23/2007.

Pursuant to 40 CFR 1506.9.

EIS No. 20070500, Final EIS, COE, CA, Berth 136-147 [TraPac] Container Terminal Project, Upgrade Existing Wharf Facilities, Install a Buffer Area between the Terminal and Community, U.S. Army COE section 10 and 404 Permit, West Basin Portion of the Port of Los Angeles, CA. Wait Period Ends: 01/02/2008. Contact: Dr. Spencer D. MacNeil 805-585-2152.

EIS No. 20070501, Final EIS, BLM, NV, Ely District Resource Management Plan, Implementation, White Pine, Lincoln Counties and a Portion of Nye County, NV. Wait Period Ends: 01/02/2008. Contact: Jeff Weeks 775-289-1825.

EIS No. 20070502, Final EIS, FHW, NE, U.S. Highway 34, Plattsmouth Bridge Study, over the Missouri River between U.S. 75 and I-29, Funding, Coast Guard Permit, U.S. Army COE 10 and 404 Permits, Cass County, NE and Mills County, IA. Wait Period Ends: 01/02/2008. Contact: Edward W. Kosola 402-437-5975.

EIS No. 20070503, Draft EIS, AFS, AK, Navy Timber Sale Project, To Address the Potential Effects of Timber Harvesting on Etolin Island, Wrangell Ranger District, Tongass National Forest, AK. Comment Period Ends: 01/14/2008. Contact: Frank Roberts 907-874-7556.

EIS No. 20070504, Draft EIS, FRC, 00, Rockies Express Pipeline Project, (REX-East), Construction and Operation of Natural Gas Pipeline Facilities, WY, NE, MO, IL, IN and OH, Comment Period Ends: 01/14/2008. Contact: Andy Black 1-866-208-3372.

EIS No. 20070505, Final EIS, WPA, CA, Trinity Public Utilities District Direct Interconnection Project, Construct and Operate a 16-mile Long 60-Kilovolt Power Transmission Facilities, (DOE/EIS-0389, Trinity County, CA, Wait Period Ends: 01/02/2008. Contact: Mark Wieringa 720-962-7448.

Amended Notices

EIS No. 20070420, Draft EIS, SFW, CA, Agua Caliente Tribal Habitat Conservation Plan (THCP), Application for an Incidental Take Permit for 24 Covered Species, Coachella Valley, Riverside County, CA, Comment Period Ends: 01/10/2008. Contact: Jim Bartel 760-431-9440. Revision to FR Notice Published 10/12/2007: Correction to Comment Period from 11/26/2007 to 01/10/2008.

EIS No. 20070478, Final EIS, AFS, AK, Helicopter Access to Conduct Forest Inventory and Analysis (FIA) in Wilderness, in Tongass and Chugach National Forest, AK. Wait Period Ends: 12/24/2007. Contact: Ken Post 907-586-8796. Review to FR Notice Published 11/09/2007: Correction to Title.

Dated: November 27, 2007.
Robert W. Hargrove,
Director, NEPA Compliance Division, Office of Federal Activities.

[FR Doc. E7-23241 Filed 11-29-07; 8:45 am]

BILLING CODE 6560-50-P